DEPARTMENT OF TRANSPORTATION

Federal Highway Administration

[Docket No. FHWA-2023-0026]

Agency Information Collection Activities: Request for Comments for a New Information Collection; Withdrawal

AGENCY: Federal Highway Administration (FHWA), Department of Transportation (DOT).

ACTION: Notice; withdrawal.

SUMMARY: The FHWA is withdrawing the notice, “Agency Information Collection Activities: Request for Comments for a New Information Collection,” published in the Federal Register on September 15, 2023.

FOR FURTHER INFORMATION CONTACT: Jason Broehm, Office of Safety, 202-366-2201, Federal Highway Administration, Department of Transportation, 1200 New Jersey Avenue SE, Washington, DC 20590. Office hours are from 9 a.m. to 5:30 p.m., from Monday through Friday, except Federal holidays.

SUPPLEMENTARY INFORMATION: The FHWA is withdrawing the notice published in the Federal Register on September 15, 2023, at 88 FR 63643 (FR Doc. 2023-20042).

Issued on: September 15, 2023.
Jazmyne Lewis,
Information Collection Officer.

[FR Doc. 2023-20341 Filed 9-19-23; 8:45 am]

BILLING CODE 4910-22-P